DEPARTMENT OF TRANSPORTATION

Pipeline and Hazardous Materials Safety Administration

Pipeline Safety: Requests for Waivers of Compliance (Special Permits)

AGENCY: Pipeline and Hazardous Materials Safety Administration (PHMSA); DOT.

ACTION: Notice.

SUMMARY: The Federal pipeline safety laws allow a pipeline operator to request PHMSA to waive compliance with any part of the Federal pipeline safety regulations. We are publishing this notice to provide a list of requests we have received from pipeline operators seeking relief from compliance with certain Federal pipeline safety regulations. This notice seeks public comment on these requests, including comments on any environmental impacts. In addition, this notice reminds the public that we have changed what we call a decision granting such a request to a special permit. At the conclusion of the comment period, PHMSA will evaluate each request individually to determine whether to grant a special permit or deny the request.

DATES: Submit any comments regarding any of these requests for special permit by May 29, 2007.

ADDRESSES: Comments should reference the docket number for the request and may be submitted in the following ways:

• DOT Web Site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web Site: http://www.Regulations.gov. This site allows the public to enter comments on any Federal Register notice issued by any agency.

Instructions: You should identify the docket number for the request you are commenting on at the beginning of your comments. If you submit your comments by mail, you should submit two copies. If you wish to receive confirmation that PHMSA received your comments, you should include a self-addressed stamped postcard. Internet users may submit comments at http://www.regulations.gov, and may access all comments received by DOT at http://dms.dot.gov by performing a simple search for the docket number.

Note: All comments will be posted without changes or edits to http://dms.dot.gov including any personal information provided.

Privacy Act Statement: Anyone may search the electronic form of all comments received for any of our dockets. You may review DOT's complete Privacy Act Statement in the Federal Register published on April 11, 2000 (65 FR 19477) or you may visit http://dms.dot.gov.

FOR FURTHER INFORMATION CONTACT: Wayne Lemoi by telephone at (404) 832-1160; or, e-mail at wayne.lemoi@dot.gov.

SUPPLEMENTARY INFORMATION:

Change in Nomenclature

The PHMSA changed the name of a decision we make granting a request for waiver of compliance from “decision granting waiver” to “special permit” to reflect that granting the request will not reduce safety. We commonly add safety conditions to decisions granting waivers to ensure that waiving compliance with an existing pipeline safety standard is consistent with pipeline safety. The change was simply a name change for a decision granting waiver under 49 U.S.C. 60118(c)(1).

Comments Invited on Requests for Waiver

The PHMSA has filed in DOT's Docket Management System (DMS) requests for waiver we have received from pipeline operators seeking relief from compliance with certain pipeline safety regulations. Each request has been assigned a separate docket number in the DMS. We invite interested persons to participate by reviewing these requests and by submitting written comments, data or other views. Please include any comments on environmental impacts granting the requests may have.

Before acting on any request, PHMSA will evaluate all comments received on or before the comment closing date. We will consider comments received after this date if it is possible to do so without incurring additional expense or delay. We may grant or deny these requests based on the comments we receive.

PHMSA has received the following requests for waivers of compliance with pipeline safety regulations:

Docket No. | Requester | Regulation(s) | Nature of waiver
PHMSA-2007-27607 | Southeast Supply Header, | 49 CFR 192.111 49 CFR 192.201 49 CFR 192.619 | To authorize operation of a 269-mile gas transmission pipeline from Delhi, LA to Coden, AL at a maximum allowable operating pressure (MAOP) of 80% of the specified minimum yield strength (SMYS).
PHMSA-2007-27842 | Midcontinent Express Pipeline, LLC | 49 CFR 192.111 49 CFR 192.201 | To authorize operation of a 500-mile gas transmission pipeline from Bryan County, OK to Choctaw County, AL at a maximum allowable operating pressure (MAOP) of 80% of the specified minimum yield strength (SMYS).
PHMSA-2007-27647 | Great Lakes Gas Transmission | 49 CFR 192.611 | To authorize operation of 720 feet of a gas transmission pipeline in Emmet County, MI without reducing operating pressure as a result of a change from a Class 2 to Class 3 location.
PHMSA-2007-27646 | Cameron LNG, LLC | 49 CFR 193.2301 | To authorize the use of automatic ultrasonic testing (AUT) to inspect LNG tank welds.
PHMSA-2007-27608 | West Virginia Oil Gathering Corporation | 49 CFR 195.8 | To authorize the insertion of polyethylene lined, glass fiber reinforced pipe into an existing steel pipeline to transport crude oil across the Ohio River near Belmont, WV.

PHMSA is correcting the Federal Register notice of February 8, 2007, as follows:

PHMSA-2006-26617 | TransCanada Keystone Pipeline, LP | 49 CFR 195.106 49 CFR 195.406 | To authorize operation of a 1,369-mile crude oil pipeline from the Canadian border near Cavalier County, ND to Payne County, OK and from Jefferson County, NE to Marion County IL at a MAOP of 80% of SMYS.

Authority: 49 U.S.C. 60118(c)(1) and 49 CFR 1.53.

Issued in Washington, DC, on April 19, 2007.
Joy Kadnar,
Director, Office of Engineering and Emergency Support.

[FR Doc. E7-7938 Filed 4-25-07; 8:45 am]

BILLING CODE 4910-60-P